DEPARTMENT OF COMMERCE

Foreign-Trade Zones Board

Order No. 1414

Expansion of Foreign-Trade Zone 222, Montgomery, Alabama, Area

Pursuant to its authority under the Foreign-Trade Zones Act of June 18, 1934, as amended (19 U.S.C. 81a-81u), the Foreign-Trade Zones Board (the Board) adopts the following Order:

Whereas, the Montgomery Area Chamber of Commerce, grantee of Foreign-Trade Zone 222, submitted an application to the Board for authority to expand FTZ 222 to include two sites at the Airport Industrial Commercial Park (Site 3 - 1,044 acres) and at the Montgomery County Technology Park (Site 4 - 368 acres) in Montgomery, Alabama, adjacent to the Birmingham Customs port of entry (FTZ Docket 57-2004, filed 12/8/04);

Whereas, notice inviting public comment has been given in the Federal Register (69 FR 74492, 12/14/04) and the application has been processed pursuant to the FTZ Act and the Board's regulations; and,

Whereas, the Board adopts the findings and recommendations of the examiner's report, and finds that the requirements of the FTZ Act and the Board's regulations would be satisfied, and that approval of the application would be in the public interest;

Now, therefore, the Board hereby orders:

The application to expand FTZ 222 is approved, subject to the FTZ Act and the Board's regulations, including Section 400.28, and further subject to the Board's standard 2,000-acre limit for the overall zone project.

Signed at Washington, DC, this 5th day of October 2005.

Joseph A. Spetrini,
Acting Assistant Secretary of Commerce for Import Administration, Alternate Chairman, Foreign-Trade Zones Board.
Attest:
Dennis Puccinelli,
Executive Secretary.

[FR Doc. 05-20931 Filed 10-18-05; 8:45 am]

BILLING CODE: 3510-DS-S